DEPARTMENT OF TRANSPORTATION

National Highway Traffic Safety Administration

[Docket No. NHTSA-2021-0051]

Agency Information Collection Activities; Submission to the Office of Management and Budget for Review and Approval; National Survey of Pedestrian and Bicyclist Attitudes, Knowledge, and Behaviors

AGENCY: National Highway Traffic Safety Administration (NHTSA), Department of Transportation (DOT).

ACTION: Notice and request for comments on a reinstatement with modification of a previously approved collection of information.

SUMMARY: In compliance with the Paperwork Reduction Act of 1995 (PRA), this notice announces that the Information Collection Request (ICR) abstracted below will be submitted to the Office of Management and Budget (OMB) for review. The ICR describes the nature of the information collection and its expected burden. The ICR is for a reinstatement with modification of a previously approved collection of information for a one-time voluntary survey regarding knowledge, attitudes, and behaviors associated with speeding. A Federal Register notice with a 60-day comment period soliciting public comments on the following information collection was published on April 4, 2022. NHTSA received two comments, which we address below.

DATES: Comments must be submitted on or before July 18, 2022.

ADDRESSES: Written comments and recommendations for the proposed information collection, including suggestions for reducing burden, should be submitted to the Office of Management and Budget at www.reginfo.gov/public/do/PRAMain. To find this particular information collection, select “Currently under Review—Open for Public Comment” or use the search function. Comments may also be sent by mail to the Office of Information and Regulatory Affairs, Office of Management and Budget, 725 17th Street NW, Washington, DC 20503, Attention: Desk Officer for Department of Transportation, National Highway Traffic Safety Administration, or by email at oira_submission@omb.eop.gov, or fax: 202-395-5806.

FOR FURTHER INFORMATION CONTACT: For additional information or access to background documents, contact Kristie Johnson, Ph.D., Office of Behavioral Safety Research (NPD-310), (202) 366-2755, kristie.johnson@dot.gov, National Highway Traffic Safety Administration, W46-498, 1200 New Jersey Avenue SE, Washington, DC 20590. Please identify the relevant collection of information by referring to its OMB Control Number 2127-0684.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

A Federal Register notice with a 60-day comment period soliciting public comments on the following information collection was published on April 4, 2022 (Federal Register/Vol. 87, No. 64/pp. 19576-19579). NHTSA received one comment and one letter in support. Steven Morris provided remarks about ebikes, but no mention of the proposed survey or general traffic safety. The letter in support of the survey was submitted by the National Association of Mutual Insurance Companies (NAMIC).

Mr. Morris takes issue with the prohibition on using ebikes on an Ohio National Forest Service bicycle trail system. He also supplied a photo of his ebike contending that they do no more damage than regular bikes to the trails. His remarks did not mention the proposed survey. In NAMIC's letter addressed to NHTSA Administrator Steven Cliff, “NAMIC supports NHTSA's proposed collection of information as necessary and appropriate and believes that the information surveyed will have significant practical utility.” They further believe that the survey effort will provide valuable information to help their members work with NHTSA, State legislators and regulars, and law enforcement agencies to improve pedestrian and bicyclist safety. NAMIC recognizes the importance of the collection citing recent statistics from NHTSA and the Governors Highway Safety Administration of the rising number of vulnerable road user deaths.

Comments on the proposed information collection are appreciated. Thank you to NAMIC for providing thoughtful commentary as to the importance of conducting the National Survey of Pedestrian and Bicyclist Attitudes, Knowledge, and Behaviors.

Title: National Survey of Pedestrian and Bicyclist Attitudes, Knowledge, and Behaviors.

OMB Control Number: 2127-0684.

Form Numbers: NHTSA Forms 1148, 1613, 1614, 1615, 1616, 1617, 1618.

Type of Request: Reinstatement with modification of a previously approved information collection (OMB Control No. 2127-0684).

Type of Review Requested: Regular.

Requested Expiration Date of Approval: 3 years from date of approval.

Summary of the Collection of Information: NHTSA is seeking approval to conduct a National Survey of Pedestrian and Bicyclist Attitudes, Knowledge, and Behaviors by web and mail among a national probability sample of 7,500 adults (and 150 adults for a pilot survey), age 18 and older to obtain up-to-date information about bicyclist and pedestrian attitudes and behaviors. Participation by respondents would be voluntary. Survey topics include the extent to which Americans engage in walking and bicycling activity, their attitudes toward and experience with various facilities, road conditions, and technologies, and their opinions on pedestrian and bicycling safety topics.

In conducting the proposed research, the survey would use computer-assisted web interviewing (i.e., a programmed, self-administered web survey) to minimize recording errors, as well as optical mark recognition and image scanning for the paper and pencil survey to facilitate ease of use and data accuracy. A Spanish-language survey option would be used to minimize language barriers to participation. Surveys would be conducted with respondents using an address-based sampling design that encourages respondents to complete the survey online. Although web-based interviewing would be the primary data collection mode, a paper questionnaire would be sent to households that do not respond to the web invitations. This collection only requires respondents to report their answers; there are no record-keeping costs to the respondents.

Description of the Need for the Information and Proposed Use of the Information: NHTSA was established by the Highway Safety Act of 1970 and its mission is to reduce the number of deaths, injuries, and economic losses resulting from motor vehicle crashes on the Nation's highways. To further this mission, NHTSA is authorized to conduct research as a foundation for the development of traffic safety programs. Title 23, United States Code, Section 403, gives the Secretary of Transportation (NHTSA by delegation) authorization to use funds appropriated to conduct research and development activities, including demonstration projects and the collection and analysis of highway and motor vehicle safety data and related information, with respect to all aspects of highway and traffic safety systems and conditions relating to vehicle, highway, driver, passenger, motorcyclist, bicyclist, and pedestrian characteristics; accident causation and investigations; and human behavioral factors and their effect on highway and traffic safety. Pedestrian safety and bicyclist safety are two of multiple behavioral areas for which NHTSA has developed comprehensive programs to meet its injury reduction goals. The major components of pedestrian and bicyclist safety programs are education, enforcement, and outreach.

NHTSA encourages walking and bicycling as alternate modes of transportation to motor vehicle travel; however, pedestrians and bicyclists are among the most vulnerable road users. Motor vehicle crashes in 2019 accounted for 6,205 pedestrian fatalities and 846 bicyclist and other cyclist fatalities.¹ That same year, 76,000 pedestrians and 49,000 bicyclists were injured in traffic crashes. Moreover, increasing safe walking and bicycling behavior is promoted as a positive contributor to the quality of life. But an increase in walking and bicycling often means an increase in exposure to potential risk of collision with motor vehicles, underscoring the need to have in place aggressive pedestrian and bicyclist safety programs to reduce injuries and fatalities. This in turn requires periodic data collection to assess whether the programs continue to be responsive to the public's information needs, behavioral intentions, attitudes, physical environment, and other factors that contribute to safety while walking or bicycling.

¹ National Center for Statistics and Analysis. (2021, March). Quick facts 2019 (Report No. DOT HS 813 124). National Highway Traffic Safety Administration. https://crashstats.nhtsa.dot.gov/Api/Public/ViewPublication/813124.

The National Survey of Pedestrian and Bicyclist Attitudes, Knowledge, and Behaviors was conducted on two previous occasions—first in 2002 and again in 2012. Those surveys provided program planners and community leaders with detailed information on walking and bicycling behavior, level of support for facilities assisting those activities and awareness of safety issues. Since it has been ten years since NHTSA last conducted the survey, the information needs updating, especially given recent programs and initiatives to increase walking and bicycling, as well as the emergence of new technologies including e-bikes, e-scooters, and fitness trackers. This project will provide that update by conducting the 2022 National Survey of Bicyclist and Pedestrian Attitudes and Behaviors. In the 2022 survey, NHTSA intends to examine the extent to which Americans engage in walking and bicycling activity, their attitudes towards and experience with various facilities, road conditions, and technologies, and their opinions on pedestrian and bicycling safety topics. Furthermore, NHTSA plans to assess whether self-reported behaviors, attitudes, and perceptions regarding walking and bicycling have changed over time since the administration of the prior national surveys. NHTSA will use the findings to assist States, localities, and communities in developing and refining walking and bicycling safety programs that will aid in their efforts to reduce pedestrian and bicyclist crashes and injuries.

NHTSA will use the information to produce a technical report that presents the results of the study. The technical report will provide aggregate (summary) statistics and tables as well as the results of statistical analysis of the information, but it will not include any personally identifiable information. The technical report will be shared with State highway offices, local governments, and those who develop traffic safety communications that aim to reduce pedestrian and bicyclist crashes.

Affected Public: Participants will be U.S. adults (18 years old and older). Businesses are ineligible for the sample and would not be interviewed.

Estimated Number of Respondents: 7,650.

Participation in this study will be voluntary. For the main survey collection, 7,500 participants will be sampled from all 50 States and the District of Columbia using address data from the most recent U.S. Postal Service (USPS) computerized Delivery Sequence File (DSF) of residential addresses. An estimated 22,943 households will be contacted and have the study described to them. No more than one respondent will be selected per household.

Prior to the main survey, a pilot survey will be administered to test the survey and the mailing protocol and procedures. Participation in this study will be voluntary with 150 participants sampled from all 50 States and the District of Columbia using address data from the most recent USPS computerized DSF of residential addresses. An estimated 459 households will be contacted and have the study described to them. No more than one respondent will be selected per household.

Frequency of Collection: The study will be conducted one time during the three-year period for which NHTSA is requesting approval, with a small pilot study occurring several months before the study's full launch. This study is part of a tracking and trending study to measure changes over time. The last study was administered in 2012.

Estimated Total Annual Burden Hours: NHTSA estimates the total burden of this information collection by estimating the burden to those who NHTSA contacts but do not respond (non-responders) and those who respond and are eligible for participation (eligible respondents or actual participants). As virtually all households have at least one adult 18 or older, all households are eligible to participate and, as such, no burden is calculated for ineligible respondents. The estimated time to contact 22,943 potential participants (actual participants and non-responders) for the survey and 459 potential participants (actual participants and non-responders) for the pilot is one minute per person per contact attempt. Contact attempts will be made in five waves with fewer potential participants contacted in each subsequent wave. NHTSA estimates that 7,500 people will respond to the survey request and 150 will respond to the pilot. The estimated time to contact (1 minute) and complete the survey (20 minutes) for 7,500 participants and 150 pilot participants is 21 minutes per person. Table 1 provides a description for each of the forms used in the survey protocol as well as their mailing wave. Details of the burden hours for each wave in the pilot and full survey are included in Tables 2 and 3 below. When rounded up to the nearest whole hour for each data collection effort, the total estimated annual burden is 4,182 hours for the project activities. Table 4 provides total burden hours associated with each form.

Table 1—NHTSA Form Number, Description, and Mailing Wave
NHTSA form No. | Description | Mailing wave
1148 | Questionnaire—National Survey of Pedestrian and Bicyclist Attitudes, Knowledge, and Behaviors (English) | 3, 5
1613 | Questionnaire—National Survey of Pedestrian and Bicyclist Attitudes, Knowledge, and Behaviors (Spanish) | 3, 5
1614 | Initial Invitation Letter | 1
1615 | Reminder Postcard #1 | 2
1616 | Cover Letter included with 1st mailing of the paper survey | 3
1617 | Reminder Postcard #2 | 4
1618 | Cover Letter included with 2nd mailing of the paper survey | 5

Table 2—Estimated Total Burden for Pilot Survey
Mailing wave (form No.) | Number of contacts | Participant type | Estimated burden per sample unit (in minutes) | Frequency of burden | Number of sample units | Burden hours * | Total burden hours *
Wave 1 (NHTSA Form 1614) | 459 | Contacted potential participant—Non-respondent | 1 | 1 | 409 | 7 | 25
|  | Recruited participant—Eligible respondent | 21 | 1 | 50 | 18
Wave 2 (NHTSA Form 1615) | 409 | Contacted potential participant—Non-respondent | 1 | 1 | 379 | 7 | 18
|  | Recruited participant—Eligible respondent | 21 | 1 | 30 | 11
Wave 3 (NHTSA Forms 1148, 1613, 1616) | 379 | Contacted potential participant—Non-respondent | 1 | 1 | 341 | 6 | 20
|  | Recruited participant—Eligible respondent | 21 | 1 | 38 | 14
Wave 4 (NHTSA Form 1617) | 341 | Contacted potential participant—Non-respondent | 1 | 1 | 322 | 6 | 13
|  | Recruited participant—Eligible respondent | 21 | 1 | 19 | 7
Wave 5 (NHTSA Forms 1148, 1613, 1618) | 322 | Contacted potential participant—Non-respondent | 1 | 1 | 309 | 6 | 11
|  | Recruited participant—Eligible respondent | 21 | 1 | 13 | 5
Total |  |  |  |  |  |  | 87
* Rounded up to the nearest hour.

Table 3—Estimated Total Burden for Main Data Collection Survey
Mailing wave (form No.) | Number of contacts | Participant type | Estimated burden per sample unit (in minutes) | Frequency of burden | Number of sample units | Burden hours * | Total burden hours *
Wave 1 (NHTSA Form 1614) | 22,943 | Contacted potential participant—Non-respondent | 1 | 1 | 20,443 | 341 | 1,216
|  | Recruited participant—Eligible respondent | 21 | 1 | 2,500 | 875
Wave 2 (NHTSA Form 1615) | 20,443 | Contacted potential participant—Non-respondent | 1 | 1 | 18,943 | 316 | 841
|  | Recruited participant—Eligible respondent | 21 | 1 | 1,500 | 525
Wave 3 (NHTSA Forms 1148, 1613, 1616) | 18,943 | Contacted potential participant—Non-respondent | 1 | 1 | 17,049 | 285 | 948
|  | Recruited participant—Eligible respondent | 21 | 1 | 1,894 | 663
Wave 4 (NHTSA Form 1617) | 17,049 | Contacted potential participant—Non-respondent | 1 | 1 | 16,102 | 269 | 601
|  | Recruited participant—Eligible respondent | 21 | 1 | 947 | 332
Wave 5 (NHTSA Forms 1148, 1613, 1618) | 16,102 | Contacted potential participant—Non-respondent | 1 | 1 | 15,443 | 258 | 489
|  | Recruited participant—Eligible respondent | 21 | 1 | 659 | 231
Total |  |  |  |  |  |  | 4,095
* Rounded up to the nearest hour.

Table 4—Estimated Total Burden by NHTSA Form for the Pilot and Main Data Collection Surveys
Information collection | Number of responses | Burden per response (minutes) | Burden per respondent (minutes) | Total burden hours
NHTSA Forms 1148 and 1613 | 7,650 | 20 | 20 | 2,550
NHTSA Form 1614 | * 23,850 | 1 | 1 | * 398
NHTSA Form 1615 | 20,852 | 1 | 1 | 348
NHTSA Form 1616 | 19,322 | 1 | 1 | 322
NHTSA Form 1617 | 17,390 | 1 | 1 | 290
NHTSA Form 1618 | 16,424 | 1 | 1 | 274
Total |  |  |  | 4,182
* Rounded up based on individual waves.

Estimated Total Annual Burden Cost: Participation in this study is voluntary, and there are no costs to respondents beyond the time spent completing the questionnaires.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology, e.g., permitting electronic submission of responses.

Authority: The Paperwork Reduction Act of 1995; 44 U.S.C. Chapter 35, as amended; 49 CFR 1.49; and DOT Order 1351.29.

Nanda Narayanan Srinivasan,
Associate Administrator, Research and Program Development.

[FR Doc. 2022-13015 Filed 6-15-22; 8:45 am]

BILLING CODE 4910-59-P